DEPARTMENT OF STATE

[Public Notice: 9562]

30-Day Notice of Proposed Information Collection; Reporting Requirements on Responsible Investment in Burma; Correction

AGENCY: Department of State.

ACTION: Notice of request for public comment and submission to OMB of proposed collection of information; correction.

SUMMARY: The Department of State published a Federal Register Notice on May 17, 2016, notifying the public of the new reporting requirement on responsible investment in Burma. The notice contained an incorrect investment amount. This document corrects the investment amount to $5,000,000.

FOR FURTHER INFORMATION CONTACT: Direct requests for additional information regarding the collection listed in this notice, including requests for copies of the proposed collection instrument and supporting documents, to Jennifer Stein, U.S. Department of State, DRL/MLGA Suite L-430, 2400 Virginia Avenue NW., Washington, DC 20037, who may be reached on 202-663-3299 or at steinjl@state.gov.

Correction

In the Federal Register of May 17, 2016, in FR Doc 2016-3668, on page 30597, in the third column, correct the “Respondents” and “Frequency” bulleted entrys to read:

• Respondents: U.S. persons and entities engaged in new investment in Burma in an amount over $5,000,000 in aggregate, per OFAC General License 17, which authorizes new investments in Burma.

• Frequency: Within 180 days of new investment in Burma over $5,000,000, annually thereafter.

Dated: May 11, 2016.
Scott Busby,
Deputy Assistant Secretary. Department of State.

[FR Doc. 2016-12055 Filed 5-20-16; 8:45 am]

BILLING CODE 4710-18-P